ENVIRONMENTAL PROTECTION AGENCY

[FRL-8046-4]

Notice of Proposed Administrative Settlement Pursuant to the Comprehensive Environmental Response, Compensation and Liability Act

AGENCY: Environmental Protection Agency (EPA).

ACTION: Notice, request for public comment.

SUMMARY: In accordance with section 122(h)(1) of the Comprehensive Environmental Response, Compensation and Liability Act, as amended (CERCLA), 42 U.S.C. 9622(h)(1), notice is hereby given of a proposed administrative settlement concerning the Patrick Bayou Superfund Site with The Lubrizol Corporation, Occidental Chemical Corporation, and Shell Oil Company on behalf of Deer Park Refining Limited Partnership and Shell Chemical LP.

Pursuant to 42 U.S.C. 9607, the settlement requires the settling parties to pay past response costs incurred through September 30, 2003 (amounting to $211,192.30), plus interest, to the Hazardous Substances Superfund. The settlement includes a covenant not to sue pursuant to sections 106 and 107 of CERCLA, 42 U.S.C. 9606 and 9607.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before April 19, 2006.

ADDRESSES: The proposed settlement and additional background information relating to the settlement are available for public inspection at 1445 Ross Avenue, Dallas, Texas 75202-2733. A copy of the proposed settlement may be obtained from Patrice Miller, 6SF-AC, 1445 Ross Avenue, Dallas, Texas 75202-2733, or by calling (214) 655-6712. Comments should reference the Patrick Bayou Superfund Site, Deer Park, Texas, and EPA Docket Number 6-03-05, and should be addressed to Patrice Miller at the address listed above.

FOR FURTHER INFORMATION CONTACT: Anne Foster, 1445 Ross Avenue, Dallas, Texas 75202-2733, or call (214) 665-2169.

Dated: March 10, 2006.
Lawrence E. Starfield,
Acting Regional Administrator, Region 6.

[FR Doc. E6-3998 Filed 3-17-06; 8:45 am]

BILLING CODE 6560-50-P